RAILROAD RETIREMENT BOARD

Agency Forms Submitted for OMB Review, Request for Comments

In accordance with the Paperwork Reduction Act of 1995 (44 U.S.C. chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Application to Act as Representative Payee; OMB 3220-0052.

Under section 12 of the Railroad Retirement Act (45 U.S.C. 231k), the Railroad Retirement Board (RRB) may pay benefits to a representative payee when an employee, spouse or survivor annuitant is incompetent or is a minor. A representative payee may be a court-appointed guardian, a statutory conservator or an individual selected by the RRB. The procedures pertaining to the appointment and responsibilities of a representative payee are prescribed in 20 CFR 266. The forms furnished by the RRB to apply for representative payee status, and for securing the information needed to support the application follow. RRB Form AA-5, Application for Substitution of Payee, obtains information needed to determine the selection of a representative payee who will serve in the best interest of the beneficiary. RRB Form G-478, Statement Regarding Patient's Capability to Manage Benefits, obtains information about an annuitant's capability to manage their own benefits. The form is completed by the annuitant's personal physician or by a medical officer, if the annuitant is in an institution. It is not required when a court has appointed an individual or institution to manage the annuitant's funds or, in the absence of such appointment, when the annuitant is a minor. The RRB also provides representative payees with a booklet at the time of their appointment. The booklet, RRB Form RB-5, Your Duties as Representative Payee-Representative Payee's Record, advises representative payees of their responsibilities under 20 CFR 266.9 and provides a means for the representative payee to maintain records pertaining to the receipt and use of RRB benefits. The booklet is provided for the representative payee's convenience. The RRB also accepts records that are kept by representative payees as part of a common business practice. Completion is voluntary. One response is requested of each respondent.

Previous Requests for Comments: The RRB has already published the initial 60-day notice (84 FR 4223 on January 24, 2023) required by 44 U.S.C. 3506(c)(2). That request elicited no comments.

Information Collection Request (ICR)

Title: Application to Act as Representative Payee.

OMB Control Number: 3220-0052.

Forms submitted: AA-5, G-478, and RB-5.

Type of request: Revision of a currently approved collection.

Affected public: Individuals or households; business or other for profit.

Abstract: Under section 12 of the Railroad Retirement Act, the Railroad Retirement Board (RRB) may pay benefits to a representative payee when an employee, spouse or survivor annuitant is incompetent or is a minor. The collection obtains information related to the representative payee application, supporting documentation and the maintenance of records pertaining to the receipt and use of benefits.

Changes proposed: The RRB proposes the following changes to Form AA-5:

Page 1:

• Above Question 1: Inserted the words “and signed” in the second sentence.

• Questions 3 and 5: Added the following Note: “Does not include Power of Attorney”.

• Question 7: Revised No options to include more clarifying information to make appropriate selection.

• Question 8: Revised second sentence to “If the beneficiary lives alone or independently (no caregiver), show their address and telephone number.”

Page 2:

• Question 11b: At the end of the sentence, changed to “go to item 18”.

Page 3:

• Question 16c: Added new question “Will you charge a fee for your services?” along with Yes and No optional responses.

Page 4:

• Question 17: Removed “Remarks” and replaced with new question 17 a-d and optional Yes and No responses.

• Question 18: Renumbered “Remarks” from 17 to 18.

• Instructions for Obtaining Form G478 section: Revised last sentence to read “Return Form AA-5, and when required, Form G-478 to:”

Page 5:

• Certification Section Questions 18 and 19: Renumbered from 18 to 19 and 19 to 20 respectively and in question 19, renumbered reference “Item 18” to “Item 19”.

Page 6:

• This Space Is For RRB Use Only section: Revised to remove all information for internal use only except for the last bullet “I select the applicant as a representative payee for the beneficiary.”

Page 7:

• Receipt For Your Claim section: Changed Field Office hours of operation, corrected grammar syntax for the Legal Status bullet, added a bullet for reporting changes to bank account information, and replaced Office of Programs—Operations with ATTN: Field Service—9th Floor.

Page 8:

• Important Notices section 4 (1): Removed the dash to connect the word “offices.”

The RRB proposes the following changes to Form G-478:

• Section below Form Title: Defined the address block entries for the Physician/Medical Officer entries.

• Patient Name and Address Header above Question 1: Added “Please Print” at the end of the header.

• Question 9: Added “—Must Be Completed” at the end of Certification.

The RRB proposes the following changes to Form RB-5:

• Pages 1 and 8: Changed the field office hours.

The burden estimate for the ICR is as follows:

Form No. | Annual responses | Time (minutes) | Burden (hours)
AA-5 | 3,000 | 18 | 900.0
Individuals | 2,250 |  | 675.0
Institutions | 750 |  | 225.0
G-478 | 2,000 | 6 | 200.0
RB-5 | 15,300 | 60 | 15,300
Individuals | 11,475 |  | 11,475
Institutions | 3,825 |  | 3,825
Total | 20,300 |  | 16,350

2. Title and purpose of information collection: Public Service Pension Questionnaires; OMB 3220-0136.

Public Law 95-216 amended the Social Security Act of 1977 by providing, in part, that spouse or survivor benefits may be reduced when the beneficiary is in receipt of a pension based on employment with a Federal, State, or local governmental unit. Initially, the reduction was equal to the full amount of the government pension.

Public Law 98-21 changed the reduction to two-thirds of the amount of the government pension. Public Law 108-203 amended the Social Security Act by changing the requirement for exemption to public service offset, that Federal Insurance Contributions Act (FICA) taxes be deducted from the public service wages for the last 60 months of public service employment, rather than just the last day of public service employment.

Sections 4(a)(1) and 4(f)(1) of the Railroad Retirement Act (RRA) (45 U.S.C. 231) provides that a spouse or survivor annuity should be equal in amount to what the annuitant would receive if entitled to a like benefit from the Social Security Administration. Therefore, the public service pension (PSP) provisions apply to RRA annuities. RRB regulations pertaining to the collection of evidence relating to public service pensions or worker's compensation paid to spouse or survivor applicants or annuitants are found in 20 CFR 219.64c.

The RRB utilizes Form G-208, Public Service Pension Questionnaire, and Form G-212, Public Service Monitoring Questionnaire, to obtain information used to determine whether an annuity reduction is in order. Completion of the forms is voluntary. However, failure to complete the forms could result in the nonpayment of benefits. One response is requested of each respondent.

Previous Requests for Comments: The RRB has already published the initial 60-day notice (85 FR 4224 on January 24, 2023) required by 44 U.S.C. 3506(c)(2). That request elicited no comments.

Information Collection Request (ICR)

Title: Public Service Pension Questionnaires.

OMB Control Number: 3220-0136.

Forms submitted: G-208 and G-212.

Type of request: Extension without change of a currently approved collection.

Affected public: Individuals or Households.

Abstract: A spouse or survivor annuity under the Railroad Retirement Act may be subjected to a reduction for a public service pension. The questionnaires obtain information needed to determine if the reduction applies and the amount of such reduction.

Changes proposed: The RRB proposes no changes to the forms in the collection.

The burden estimate for the ICR is as follows:

Form No. | Annual responses | Time (minutes) | Burden (hours)
G-208 | 70 | 16 | 19
G-212 | 1,100 | 15 | 275
Total | 1,170 |  | 294

3. Title and purpose of information collection: Supplement to Claim of Person Outside the United States; OMB 3220-0155.

Under the Social Security Amendments of 1983 (Pub. L. 98-21), which amends Section 202(t) of the Social Security Act, effective January 1, 1985, the Tier I or the overall minimum (O/M) portion of an annuity, and Medicare benefits payable under the Railroad Retirement Act to certain beneficiaries living outside the U.S., may be withheld. The benefit withholding provision of Public Law 98-21 applies to divorced spouses, spouses, minor or disabled children, students, and survivors of railroad employees who (1) initially became eligible for Tier I amounts, O/M shares, and Medicare benefits after December 31, 1984; (2) are not U.S. citizens or U.S. nationals; and (3) have resided outside the U.S. for more than six consecutive months starting with the annuity beginning date. The benefit withholding provision does not apply, however to a beneficiary who is exempt under either a treaty obligation of the U.S., in effect on August 1, 1956, or a totalization agreement between the U.S. and the country in which the beneficiary resides, or to an individual who is exempt under other criteria specified in Public Law 98-21.

RRB Form G-45, Supplement to Claim of Person Outside the United States, is currently used by the RRB to determine applicability of the withholding provision of Public Law 98-21. Completion of the form is required to obtain or retain a benefit. One response is requested of each respondent.

Previous Requests for Comments: The RRB has already published the initial 60-day notice (84 FR 4224 on January 24, 2023) required by 44 U.S.C. 3506(c)(2). That request elicited no comments.

Information Collection Request (ICR)

Title: Supplement to Claim of Person Outside the United States.

OMB Control Number: 3220-0155.

Form(s) submitted: G-45.

Type of request: Extension without change of a currently approved collection.

Affected public: Individuals or Households.

Abstract: Under Public Law 98-21, the Tier I or the overall minimum portion of an annuity and Medicare benefits payable under the Railroad Retirement Act to certain beneficiaries living outside the United States may be withheld. The collection obtains the information needed by the Railroad Retirement Board to implement the benefit withholding provisions of Public Law 98-21.

Changes proposed: The RRB proposes no changes to Form G-45.

The burden estimate for the ICR is as follows:

Form No. | Annual responses | Time (minutes) | Burden (hours)
G-45 | 50 | 10 | 8

4. Title and purpose of information collection: Repayment of Debt; OMB 3220-0169.

When the Railroad Retirement Board (RRB) determines that an overpayment of Railroad Retirement Act or Railroad Unemployment Insurance Act benefits has occurred, it initiates prompt action to notify the annuitant of the overpayment and to recover the money owed the RRB. To effect payment of a debt by credit card, the RRB utilizes Form G-421F, Repayment by Credit Card. The RRB's procedures pertaining to benefit overpayment determinations and the recovery of such benefits are prescribed in 20 CFR 255 and 340. One form is completed by each respondent. Completion is voluntary.

Previous Requests for Comments: The RRB has already published the initial 60-day notice (84 FR 4225 on January 24, 2023) required by 44 U.S.C. 3506(c)(2). That request elicited no comments.

Information Collection Request (ICR)

Title: Repayment of Debt.

OMB Control Number: 3220-0169.

Form(s) submitted: G-421F.

Type of request: Extension without change of a currently approved collection.

Affected public: Individuals or Households.

Abstract: When the RRB determines that an overpayment of benefits under the Railroad Retirement Act or Railroad Unemployment Insurance Act has occurred, it initiates action to notify the claimant of the overpayment and to recover the amount owed. The collection obtains information needed to allow for repayment by the claimant by credit card, in addition to the customary form of payment by check or money order.

Changes proposed: The RRB proposes no changes to Form G-421F.

The burden estimate for the ICR is as follows:

Form No. | Annual responses | Time (minutes) | Burden (hours)
Form G-421F (RRA) activity | 360 | 5 | 30
Form G-421F (RUIA) activity | 175 | 5 | 15
Total | 535 |  | 45

Additional Information or Comments: Copies of the forms and supporting documents can be obtained from Kennisha Tucker at (312) 469-2591 or Kennisha.Tucker@rrb.gov.

Comments regarding the information collection should be addressed to Brian Foster, Railroad Retirement Board, 844 North Rush Street, Chicago, Illinois 60611-1275 or Brian.Foster@rrb.gov and to the OMB Desk Officer for the RRB, Fax: 202-395-6974, Email address: OIRA_Submission@omb.eop.gov.

Brian Foster,
Clearance Officer.

[FR Doc. 2023-06253 Filed 3-24-23; 8:45 am]

BILLING CODE 7905-01-P